ENVIRONMENTAL PROTECTION AGENCY

[ER-FRL-6610-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-COE-E35085-MS Rating EU2, Destination Broadwater Project, Proposed Redevelopment and Construction of a large-scale Casino Destination Resort in Biloxi, Approval of Permits for Section 10 of the River and Harbor Act and Section 404 of the CWA, Harrison County, MS.

Summary: EPA rated the applicant's proposal as environmentally unsatisfactory based on the potential for significant adverse consequences to important aquatic resources of the Mississippi Sound, as well as the availability of other less environmentally damaging alternatives.

ERP No. D-COE-E36178-00 Rating LO, Wolf River Ecosystem Restoration, Memphis, Tennessee Feasibility Study, Marshall, Benton and Tippah Counties, MS and Shelby, Fayette and Harderman, TN.

Summary: Structural measures of the proposed action will significantly improve fish and wildlife habitat in the watershed. Therefore, EPA has no objection to the proposed action.

ERP No. D-COE-H36108-NB Rating EC2, Sand Creek Watershed Restoration Project, To Develop Environmental Restoration, City of Wahoo, Saunders County, NB.

Summary: EPA expressed concern that the need for the project was not demonstrated given the current state of the watershed. The effects of improved agricultural management practices which have been implemented over the past thirteen years were not addressed and many contemporary farming practices, (such as conservation tillage, no-till, etc.) have been implemented for the express purpose of improving water quality and controlling soil and nutrient loss.

ERP No. D-NPS-E61075-FL Rating EC2, Dry Tortugas National Park General Management Plan, Implementation, Monroe County, FL.

Summary: EPA expressed concerns and requested additional information on management plan implementation, enforcement, and mitigation of both existing conditions and possible future impacts.

ERP No. DS-NOA-E64016-FL Rating EC2, Florida Keys National Marine Sanctuary (FKNMS), Comprehensive Management Plan, Updated Information, Proposal to Establish a No-Take Ecological Reserve in the Tortugas Region, FL.

Summary: EPA expressed environmental concerns about the proposed management plan. EPA requested details of the plan be included in the final document.

Final EISs

ERP No. F-AFS-F65026-MN, Gunflint Corridor Fuel Reduction, Implementation, Superior National Forest, Gunflint Ranger District, Cook County, MN.

Summary: The FEIS adequately addressed our concerns, regarding potential impacts to wetlands, water, and air quality. Therefore, EPA has no objection to the action as proposed.

ERP No. F-DOE-E09804-FL, JEA Circulating Fluidized Bed (CFB) Combustor Project, 300 Megawatt-Electric, Coal and Petroleum Coke-Fired, CFB Combustor and Boiler to Repower an existing Steam Turbine at JEA's North-side Generating Station Construction and Operation, Funding, Jacksonville, Duval County, FL.

Summary: EPA appreciates the mitigation measures DOE will employ to address potential impacts of this project, but we continue to have environmental concerns about potential process releases.

ERP No. F-FRC-K05055-CA, Potter Valley Project Proposed Changes in Minimum Flow Requirements, License Amendment, (FERC Project No. 77-110), Lake and Mendocino Counties, CA.

Summary: EPA expressed continuing concerns involving the range of alternatives and the relative weight given to economic factors unrelated to fishery health in selecting a preferred alternative.

ERP No. F-TVA-E65054-TN, Tellico Reservoir Land Management Plan, Implementation of Seven Mainstream and Two Tributary Reservoirs, Blount, Loudon and Monroe, Tn.

Summary: EPA recognized that the preferred management plan should environmentally improve the management of the Tellico Reservoir lands. EPA expressed concern over the continued pressure for development, timbering and recreation in the southeast, and the resulting impacts to water quality and other environmental resources.

Regulations

ERP No. R-APH-A99020-00, Pipeline Safety: Areas Unusually Sensitive to Environmental Damage

Summary: EPA had objections to the proposed regulations. EPA believes that the proposed regulations do not adequately address our substantial concerns about how the Unusually Sensitive Areas will be defined. Several recommendation were offered.

Dated: August 8, 2000.
Joseph P. Montgomery,
Director, NEPA Compliance Division, Office of Federal Activities.

[FR Doc. 00-20437 Filed 8-10-00; 8:45 am]

BILLING CODE 6560-50-P